DEPARTMENT OF THE INTERIOR

Fish and Wildlife Service

Final Comprehensive Conservation Plan for Eastern Shore of Virginia and Fisherman Island National Wildlife Refuges

AGENCY: Fish and Wildlife Service, Department of the Interior.

ACTION: Notice of availability.

SUMMARY: The U.S. Fish and Wildlife Service (Service) announces that the final Comprehensive Conservation Plan (CCP) is available for Eastern Shore of Virginia and Fisherman Island National Wildlife Refuges (NWRs). This CCP is prepared pursuant to the National Wildlife Refuge System Administration Act of 1966, as amended by the National Wildlife Refuge System Improvement Act of 1997 (16 U.S.C. 668dd et seq.), and the National Environmental Policy Act of 1969, and describes how the Service intends to manage these refuges over the next 15 years.

ADDRESSES: Copies of this CCP are available on compact diskette or in hard copy, and may be obtained by writing: Nancy McGarigal, U.S. Fish and Wildlife Service, 300 Westgate Center Drive, Hadley, Massachusetts 01035, or by e-mailing northeastplanning@fws.gov. This document may also be accessed at the Web site address http://northeast.fws.gov/planning.

FOR FURTHER INFORMATION CONTACT: Nancy McGarigal, Refuge Planner, (413) 253-8562, e-mail Nancy_McGarigal@fws.gov.

SUPPLEMENTARY INFORMATION: A CCP is required by the National Wildlife Refuge System Administration Act of 1966, as amended by the National Wildlife Refuge System Improvement Act of 1997. The purpose of developing a CCP is to provide refuge managers with a 15-year strategy for achieving refuge purposes and contributing toward the mission of the National Wildlife Refuge System, consistent with sound principles of fish and wildlife science, conservation, legal mandates, and Service policies. In addition to outlining broad management direction on conserving wildlife and habitats, a CCP identifies wildlife-dependent recreational opportunities available to the public, including opportunities for hunting, fishing, wildlife observation and photography, and environmental education and interpretation. The CCP will be reviewed and updated at least every 15 years in accordance with the National Wildlife Refuge System Administration Act of 1966, as amended by the National Wildlife Refuge System Improvement Act of 1997 and the National Environmental Policy Act of 1969.

Eastern Shore of Virginia NWR was created in 1984 when 180 acres were transferred to the Service from the U.S. Air Force through the General Services Administration. The refuge was established administratively under the general legislative authority of the Transfer of Certain Real Property for Wildlife Conservation Purposes Act (16 U.S.C. 667b-667d), the Refuge Recreation Act (16 U.S.C. 460k-460k-4), and the Migratory Bird Conservation Act (16 U.S.C. 715-715d, 715e, 715f-715r). It presently consists of 1,122 acres of various habitats including maritime forest, myrtle and bayberry thickets, grassland, fresh and brackish ponds, tidal salt marsh, and beach. The refuge and its adjoining woodlands at the tip of the Delmarva Peninsula are regarded as one of the most important migratory bird concentration points along the East Coast. This importance stems from the fact that the Delmarva Peninsula acts as a geographic funnel for migratory birds in the fall, bringing millions of migratory birds to rest and feed at the tip until favorable winds assist them in crossing the Chesapeake Bay.

Fisherman Island NWR was first established in 1969, but it was not until 1973 that sole ownership rights were transferred to the Service by the Department of the Navy. The refuge was established administratively under the Transfer of Real Property for Wildlife Conservation Purposes Act and the Migratory Bird Conservation Act. As Virginia's southernmost barrier island, Fisherman Island NWR is currently estimated to be 1,850 acres in size, but continues to expand due to accretion. It is administered in conjunction with the Eastern Shore of Virginia NWR. The Chesapeake Bay Bridge-Tunnel, which links mainland Virginia to its eastern shore, cuts through the western part of the island. Habitat succession on the island has formed a variety of vegetative communities, which, combined with its geographic location, accessibility of food plants, protective shrub and thicket cover, and minimal human disturbance, make this refuge a hemispherically important stopover location for migratory birds.

Our final CCP includes management direction for both refuges. Our highest priority biological goals and objectives include habitat enhancements for federally listed species and temperate and neotropical migratory birds. We plan to conduct surveys of the federally threatened Northeastern beach tiger beetle to examine fluctuations in its population, and assess human disturbance from trespassing on the southern tip beach of the Eastern Shore of Virginia NWR. In addition, we will work with an adjacent resort owner to protect the beetle population on the resort beach. Surveys for the federally threatened piping plover, during both their breeding and migration seasons, will also be completed. We will implement strategies to manage predators where necessary to protect plovers and other nesting birds. We also plan to survey for, and protect where located, the federally threatened plant, seabeach amaranth.

The CCP identifies habitats we will manage to augment the value of the refuges to neotropical and temperate migratory birds. Our goal is to enhance forage and cover for these birds by increasing the amount of hardwood-dominated forest, and the diversity and abundance of forest understory and native upland shrub. We have also selected locations to manage for grasslands. The effectiveness of our management will be greatly facilitated with the 6,030-acre expansion of Eastern Shore of Virginia NWR included in the CCP. These acres, once purchased from willing sellers, will afford permanent protection to habitat areas essential to the millions of birds migrating through the Delmarva Peninsula.

Our CCP includes programs to enhance wildlife-dependent recreational opportunities and community outreach programs. We will offer new deer and waterfowl hunting opportunities on the Eastern Shore of Virginia NWR and expand environmental education programs and facilities. We will also develop new interpretive materials that focus on how these refuges contribute to the conservation of temperate and neotropical migratory birds.

In the CCP, we commit to conducting wilderness reviews of both Eastern Shore of Virginia (including Skidmore Island) and Fisherman Island NWRs, within 3 years of approval. We will also evaluate these lands for their potential as Research Natural Areas, within the same time frame as the wilderness reviews.

The CCP also establishes how we will manage three facilities on the Eastern Shore of Virginia NWR, which were important public concerns during development of both the draft and final CCPs: The Wise Point boat ramp, the firearms range, and the communications tower.

Wise Point Boat Ramp: When the United States acquired the former Wise Point Corporation property in December 2001, the purchase included a private boat ramp which provides one of the only access points to deep water on the southern tip of the Delmarva Peninsula. The boat ramp is popular with recreational anglers and important to the operations of at least 20 commercial watermen. The CCP outlines our plans to maintain access for both user groups, and improve the entrance road, boat ramp, and the parking lot. Docking, 24-hour access, and parking privileges for commercial watermen will be phased out over time. We will charge a fee for boat ramp use with a fee structure based on the type and frequency of use. We will monitor these developments at the boat ramp to ensure they do not adversely impact barrier island and marsh-dependent species, water quality, and surrounding habitat.

Firearms Range: Immediately adjacent to the refuge, on 60 acres owned by Northampton County, is a firearms range used by Federal, State and County law enforcement personnel. Our staff will continue to maintain the firearms range, scheduling usage so as not to conflict with environmental education programs. We will continue to work with partners to find an alternate, off-refuge site for the firearms range. Until a new site is located, we will work with Northampton County to implement new practices for firearms range management, including those that control surface runoff and leachate from the berm, and periodically remove contaminated soils.

Communications Tower: When the refuge was acquired, the Service assumed two existing leases which allowed a 299-foot communications tower and a switching station on the refuge. The tower supports in-house radio communications for Verizon, Inc. and refuge staff. Adjacent to the tower, the switching station houses underground communications lines which cross the Chesapeake Bay Bridge-Tunnel and head north to Cape Charles. The leases on both the tower and the switching station expire in 2007. We will not renew the lease for the tower, and Verizon, Inc. will be responsible for removing the tower once the lease expires. The Service will work with Verizon, Inc. to assess the need for continued use of the switching station.

Dated: April 7, 2004.
Richard O. Bennett,
Acting Regional Director, U.S. Fish and Wildlife Service, Hadley, Massachusetts.

[FR Doc. 04-16270 Filed 7-16-04; 8:45 am]

BILLING CODE 4310-55-P